DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 85 FR 70630-70633, dated November 5, 2020) is amended to reflect the reorganization of the National Center for HIV/AIDS, Viral Hepatitis, STD, and TB Prevention, Centers for Disease Control and Prevention.

Section C-B, Organization and Functions, is hereby amended as follows:

Delete in its entirety the title for the National Center for HIV/AIDS, Viral Hepatitis, STD, and TB Prevention (CVJ) and insert the following title National Center for HIV, Viral Hepatitis, STD, and TB Prevention (CVJ).

Revise the mission statement for the National Center for HIV, Viral Hepatitis, STD, and TB Prevention (CVJ) and insert the following:

National Center for HIV, Viral Hepatitis, STD, and TB Prevention (CVJ). The National Center for HIV, Viral Hepatitis, STD, and TB Prevention (NCHHSTP) maximizes public health and safety nationally and internationally through the elimination, prevention, and control of disease, disability, and death caused by Human Immunodeficiency Virus Infection (HIV), non-HIV retroviruses, viral hepatitis, other sexually transmitted diseases (STDs), and tuberculosis (TB). In carrying out its mission, NCHHSTP: (1) Builds capacity and enhances public health infrastructure for preventing and treating HIV, viral hepatitis, STDs, and TB; (2) coordinates activities and programs across CDC and with other Department of Health and Human Services Operating Divisions in order to maximize the public health impact of HIV, viral hepatitis, STDs, and TB interventions; (3) conducts surveillance and research to determine the distribution, determinants, and burden of HIV, viral hepatitis, STDs, and TB; (4) conducts program evaluation to improve programs and activities relating to the prevention of HIV, viral hepatitis, STDs, and TB, and determine their impact; (5) provides reference laboratory and clinical diagnostic services for HIV, viral hepatitis, STDs, and TB to relevant stakeholders; (6) promotes collaboration and service integration among HIV, viral hepatitis, STDs, and TB programs; (7) engages external partners to develop and implement effective HIV, viral hepatitis, STDs, and TB policies, research, and programs; (8) engages partners, to promote health equity and reduce health disparities among those affected by HIV, viral hepatitis, STDs, and TB; (9) provides technical assistance and training in the diagnosis, treatment, and prevention of HIV, viral hepatitis, STDs, and TB; (10) conducts public health communication activities to disseminate research findings and increase awareness of HIV, viral hepatitis, STDs, and TB; (11) conducts operational, behavioral, and biomedical research to improve the distribution, diagnosis, prevention, and control of HIV, viral hepatitis, STDs, and TB; (12) provides scientific leadership regarding public health ethics and protection of human subjects linked to HIV, viral hepatitis, STDs, and TB; (13) translates research findings into public health practice and policy for HIV, viral hepatitis, STDs, and TB prevention; (14) plans, coordinates, and guides programs and activities with external partners, federal agencies, and other organizations related to HIV, viral hepatitis, STDs, and TB prevention, care, and treatment; (15) leads and participates in the development, implementation, and evaluation of policies and guidelines related to HIV, viral hepatitis, STDs, and TB; (16) provides scientific leadership regarding screening, treatment, immunization, and other prevention interventions relevant to HIV, viral hepatitis, STDs, and TB; (17) assures all public health decisions are based on the highest quality scientific data, openly and objectively derived; (18) provides leadership to assist international partners in establishing and maintaining, HIV, viral hepatitis, STDs, and TB screening, treatment, immunization, and other prevention and control programs; (19) ensures that programmatic and scientific activities are aligned with, and in support of, CDC's overall mission, goals, and strategic imperatives; (20) allocates and tracks CDC resources and contributes to the development of CDC's short-, medium- and long-term strategic plans for preventing the spread of HIV, viral hepatitis, STDs, and TB; (21) collaborates with other federal agencies, domestic and international governmental and non-governmental organizations to advance CDC and NCHHSTP health protection goals; and (22) coordinates oversight of the NCHHSTP Federal Advisory Committees.

Delete in its entirety the titles and mission and function statement for the Office of the Director (CVJ1) and insert the following:

Office of the Director (CVJ1). (1) Provides leadership and guidance on the development of goals and objectives, policies, program planning and development, and program management and operations of the activities of NCHHSTP and manages, directs, coordinates, and evaluates the center's activities; (2) plans and coordinates the annual program planning process; (3) coordinates with Office of the Director (OD), Centers/Institute/Offices (CIOs), and divisions in determining and interpreting operating policy and in ensuring their respective management input for specific program activity plans; (4) facilitates closer linkages between HIV, non-HIV retroviruses, STDs, viral hepatitis, and TB, surveillance activities and prevention programs at all levels, and facilitates collaboration, integration, and multi-disciplinary approaches to enhance the effectiveness of HIV, STD, viral hepatitis, and TB prevention programs; (5) facilitates collaboration among, and integration of, science and prevention programs throughout NCHHSTP and enhances the coordination and integration of HIV, STD, viral hepatitis, and TB prevention services for individuals and populations at increased risk for more than one of these infections; (6) coordinates the integration of CDC funding of state and local health departments for HIV, STD, viral hepatitis, and TB prevention; (7) maximizes center-wide collaboration to promote and support Program Collaboration and Service Integration (PCSI) in state and local HIV, viral hepatitis, STD and TB programs to increase efficiencies and provide comprehensive evidence based prevention services to impacted populations; (8) develops partnership objectives and strategies for advancing center priorities (e.g., on cross-cutting functions PCSI, reducing health disparities, etc.) and leverages OD resources to address these objectives and strategies; (9) coordinates and tracks health equity science and program activities within the center; (10) coordinates and tracks science and program activities that concern or address social determinants of health within NCHHSTP and other programs; (11) collaborates with the CDC OD and other CDC components on health equity activities, and works with the CDC OD to monitor progress in meeting Executive Orders related to improving minority health; (12) develops partnerships with other federal agencies and nongovernmental organizations working on similarly-affected populations; (13) supports research, surveillance, education, training, and program development to achieve health equity and reduce health disparities; (14) sponsors workgroups, meetings, and conferences related to health equity; (15) promotes a diverse public health workforce through internships, fellowships, training programs, and other activities; (16) ensures process consistency for laboratory related functions within NCHHSTP and across the CIOs; (17) facilitates cross-center decision-making regarding laboratory activities; (18) monitors the performance of funded extramural research projects in the areas of HIV, viral hepatitis, STD and TB; (19) collaborates with other federal agencies to advance prevention through healthcare; (20) coordinates and supports cross-cutting strategic initiatives in support of NCHHSTP divisions and partners; and (21) works across the agency to advance prevention priorities.

Delete item (3) of the functional statement for the Office of the Associate Director for Science (CVJ12), and insert the following: (3) Facilitates communication regarding scientific and programmatic services across the Deputy Director of Infectious Diseases (DDID).

Delete in its entirety the titles and mission and function statements for the Division of HIV/AIDS Prevention—Intervention and Support (CVJB).

Delete in its entirety the titles and mission and function statements for the Division of HIV/AIDS Prevention—Surveillance and Epidemiology (CVJC) and insert the following:

Division of HIV Prevention (CVJC). (1) Conducts national HIV surveillance, oversees the implementation of HIV prevention and control programs, conducts HIV research, and evaluates the impact of division's program and research activities in collaboration with other CDC CIOs; (2) provides consultation, financial, and technical services to assist others in the planning, development, implementation, evaluation and overall improvement of HIV prevention programs; (3) conducts research into factors affecting the prevention of HIV; (4) provides strategic vision, planning, and coordination for implementation of policies and programmatic activities that address the Ending the HIV Epidemic initiative in collaboration with the center, CDC OD, and other CIO; (5) provides strategic direction of program-led science by overseeing the refinement of the Division of HIV Prevention's (DHP) scientific research agenda and coordination of DHP priorities; (6) counsels leadership in building and aligning strategic partnerships at the executive-level and communicates internally and externally about partnership priorities; (7) works closely with CDC stakeholders on HIV surveillance and epidemiologic investigations that require laboratory collaboration, and on activities related to the investigation and prevention of HIV-related opportunistic infections; (8) promotes linkages between health departments' HIV programs, and other governmental and nongovernmental partners who are vital to HIV prevention efforts; (9) develops preventive health services models, recommendations, and guidelines on the prevention of HIV and associated illnesses; (10) monitors surveillance of risk behaviors associated with HIV transmission, infectious diseases, and other complications of HIV; (11) develops methods and guidance, and provides technical assistance to support health departments to build capacity for cluster and outbreak response; (12) determines risk factors and transmission patterns of HIV by conducting HIV surveillance, epidemiologic investigations, and research studies; (13) works closely with other governmental and nongovernmental agencies, and the health care community to enhance and evaluate HIV prevention services in public and private health care delivery systems; (14) implements national HIV prevention public information programs and assists in developing strategic communications activities and services at the national level to inform and educate the American public about HIV, especially clinical providers, persons with HIV and groups at high risk for acquiring HIV; (15) manages, develops and directs the implementation of the division data policy, management, and governance, provides IT coordination and support for enterprise level shared services, and coordinates with other parts of CDC to ensure adherence to CDC's IT governance and data modernization policies; (16) provides information on HIV to CDC partners, scientific communities, and the general public through publications and presentations; and (17) collaborates with UNAIDS, the World Health Organization and other partners on HIV surveillance and epidemiology.

Office of the Director (CVJC1). (1) Plans, directs, and evaluates activities of the division; (2) serves as the division's liaison to the center policy office, the CDC OD, HHS, GAO and OIG, CDC Washington and the Office of Appropriations to address inquiries, develop the President's budget, review legislation, and support outreach to educate policy makers; (3) manages strategic planning and coordinates related reporting; (4) identifies, analyzes and addresses policy barriers and leads legal assessment efforts; (5) provides strategic direction, goals, and priorities to build and evaluate the effectiveness of division partnerships, in coordination with DHP branches and offices, including expanding public private partnerships, community-level partnerships, and engaging special populations; (6) monitors internal and external environmental shifts to identify and analyze potential and real reputational risk issues and develops responses to anticipated issues to lessen their impact; (7) provides critical vision and communication counsel to DHP leadership, aligns messaging across the division, and develops, coordinates, and finalizes strategic communication plans, messaging, partner communications, social media, and other communication materials; (8) advances DHP programmatic priorities through proactive stakeholder communication and liaises with the Center News Media team; (9) develops goals and objectives and provides guidance in national HIV prevention policy formulation and program planning and development; (10) leads the development and provides oversight of the research agenda and ensures the scientific integrity of research, surveillance, evaluation, and other scientific aspects of HIV prevention, and coordinates these activities with other center divisions, CIOs, federal agencies and other prevention partners as needed; (11) oversees and coordinates prevention and control program implementation and coordinates activities with other center divisions, CIOs, federal agencies, and other prevention partners; (12) provides oversight for the integrity and quality of division science, including review of protocols and other scientific products and projects, scientific clearance, and compliance with all federal rules and regulations regarding research and non-research projects, and conducts scientific training; (13) coordinates international HIV activities of the division and ensures inter-divisional coordination within the center and CDC, as appropriate; (14) in the international setting, evaluates biomedical, structural, or combination interventions to prevent HIV infection and reduce HIV morbidity and mortality; (15) in the international setting, conducts and facilitates diagnostic evaluations and epidemiologic investigations to increase the diagnosis and prevention of HIV infection; (16) provides support and guidance for program management and operations, including the coordination and development of CDC and division-wide training and educational programs, workforce development and succession planning; (17) provides management, oversight, and services support for intramural and extramural program management; (18) provides health equity strategic vision for the division, offices, and branches and collaborates with branches to monitor progress toward achieving national agency, center and division health equity goals; (19) leads the development and provides oversight of the health equity research and programmatic agenda for the division, and serves as liaison to key stakeholder groups related to health inequities and HIV issues; (20) oversees and coordinates the development, maintenance, and reporting of national indicators for the prevention of HIV by working with HHS, other federal agencies, and partners; (21) provides support and reviews logic models and performance measures for Notice of Funding Opportunity Announcements for the division; (22) conducts data driven reviews for program planning and performance assessment; (23) oversees, develops, and directs the division's data policy framework, data management framework, and data governance implementation; (24) coordinates with other parts of CDC to ensure adherence to CDC's IT governance and data modernization policies; (25) manages the acquisition, receipt, quality assessment, and provisioning of non-CDC data resources; and (26) provides division-level IT/Informatics coordination and support for enterprise-level shared services.

HIV Research Branch (CVJCB). (1) Designs and conducts clinical, epidemiologic, implementation, health services, and behavioral research studies and trials to increase HIV diagnosis, prevention, and treatment, and to optimize health outcomes of people with HIV; (2) conducts implementation research to understand and evaluate strategies to increase uptake, delivery and sustainability of HIV prevention interventions; (3) designs and conducts research to understand determinants of disparities, including social determinants of health, and to promote health equity in HIV prevention and treatment; (4) conducts studies to evaluate, improve, and standardize laboratory technologies used for diagnosis and monitoring of HIV infection and for supporting adherence to biomedical HIV prevention and treatment interventions; (5) conducts demonstration projects of novel prevention strategies delivered by health departments, community-based organizations (CBO), healthcare organizations, and other providers; (6) contributes to the field of HIV prevention by producing and disseminating scientific evidence and by providing expert consultation to stakeholders; (7) collaborates with key stakeholders in identifying research priorities and in designing and conducting research; (8) supports partners in investigating unusual HIV transmission and cluster and outbreak investigations; and (9) participates in the development of guidelines, based on scientific investigations and clinical trials, for HIV prevention and for prevention of adverse outcomes of HIV infection.

Behavioral and Clinical Surveillance Branch (CVJCC). (1) Conducts surveillance of behaviors related to acquisition or transmission of HIV infection in high risk populations to evaluate the impact of the national or jurisdiction's overall prevention portfolio to direct prevention resource allocation; (2) develops, uses, and disseminates methods to monitor behaviors associated with HIV transmission or acquisition; (3) conducts clinical surveillance through in-depth interviews of persons with diagnosed HIV to assess access to medical care and prevention services, adherence to therapy, and behavioral risk associated with HIV transmission; (4) conducts clinical surveillance through in-depth chart reviews of persons with diagnosed HIV in selected sites to monitor morbidity and mortality and to assess access to and quality of care; (5) develops, uses, and disseminates methods to monitor clinical care and health outcomes for people with diagnosed HIV; (6) conducts behavioral or clinical surveillance in special populations of epidemiologic importance; (7) maintains, analyzes, and disseminates information from national surveys of behaviors associated with HIV testing, prevention, acquisition, or transmission; (8) collaborates with internal and external partners to ensure high quality behavioral and clinical monitoring systems, including screening for, and monitoring of comorbidities in key populations; (9) oversees and manages intramural and extramural funding, ensures regulatory compliance, provides technical assistance, and monitors program implementation related to behavioral and clinical surveillance; (10) provides support for outbreak response; and (11) provides subject matter expertise and support related to high risk populations and to medical care for people with HIV.

Quantitative Sciences Branch (CVJCD). (1) Designs, develops, and implements statistical, data science, economic, cost, and resource allocation strategies, models, and methodologies; (2) collaborates with scientists, program experts, and senior public health officials throughout the division to apply quantitative science models and methodologies to HIV surveillance and prevention studies and prevention program activities; (3) develops and implements mathematical models to project the effects of prevention and care interventions on future HIV incidence, prevalence, transmission rates, and costs associated with HIV to determine the most efficient allocation of HIV prevention resources; (4) develops and reviews the statistical content of study designs and protocols, analysis plans, and scientific and communication products; and (5) applies novel analytic algorithms and visualization approaches to extract actionable HIV-prevention-related information from suitable non-traditional data types and sources.

HIV Surveillance (CVJCE). (1) Conducts population based, national HIV surveillance to monitor and characterize HIV trends, transmission risk, clinical outcomes, and antiretroviral resistance to guide public health action at the federal, state, and local levels; (2) develops and implements HIV surveillance technical guidance, methods, protocols, and program standards for analysis and data system applications for the collection, evaluation, analysis, security and confidentiality, and dissemination of HIV surveillance data; (3) maintains, analyzes, integrates and disseminates information from the national HIV surveillance and related systems; (4) promotes uses of surveillance data to inform HIV prevention and care efforts, resource allocation, public health policy development and evaluation; (5) conducts projects for populations of epidemiologic importance and advancement of surveillance methods; (6) evaluates HIV surveillance systems, develops and implements improved surveillance methodologies, and conducts data driven technical assistance; (7) oversees and manages extramural funding for surveillance activities and provides programmatic, budgetary, and technical assistance to state and local health departments and other external partners to ensure high-quality state, local and national HIV surveillance data; (8) collaborates with internal and external partners and supports cluster and outbreak detection and investigation; and (9) collaborates with internal and external stakeholders to enhance surveillance quality, data use, and provide expert consultation.

Laboratory Branch (CVJCG). (1) Conducts studies of HIV and other human and zoonotic retroviruses, including the diseases they cause and their modes of transmission, through virus detection, isolation, and characterization by virologic, molecular, and cellular biologic methods; (2) collaborates with DHP and other investigators to conduct HIV epidemiologic and surveillance studies as they pertain to testing, prevention, and intervention strategies; (3) conducts and supports field and clinical studies for HIV prevention; (4) develops collaborations with other CDC and non-CDC scientists to promote scientific progress and accomplishments; (5) collaborates with industry to promote commercialization of useful technology, methodologies, or reagents of public health importance; (6) serves as a reference laboratory for state and local health departments; (7) conducts studies related to the development, evaluation, improvement, and standardization of laboratory technologies used for the diagnosis, surveillance, and monitoring of HIV infection both independently and in collaboration with the biotechnology industry; (8) performs HIV testing in support of the diagnostic, surveillance, and epidemiologic requirements of CDC-based and CDC-affiliated studies of HIV; (9) provides diagnostic services to other federal agencies, academic centers, CDC-affiliated studies with other countries, and community organizations, as appropriate; (10) develops and evaluates novel biomedical prevention and treatment modalities in preclinical animal models; (11) evaluates and develops HIV testing technologies; (12) researches, develops, and evaluates bioinformatics tools to better understand HIV spread to inform prevention efforts; (13) provides antiretroviral drug testing in support of clinical, preclinical, and surveillance activities; and (14) collaborates with internal and external partners and supports cluster and outbreak detection and investigation.

HIV Prevention Capacity and Development Branch (CVJCH). (1) Assesses HIV prevention and treatment training and technical assistance needs of DHP program funding recipients, clinicians, and other HIV prevention service providers and develops and delivers strategies and products to address identified needs; (2) develops, maintains, and manages systems to ensure that health department and CBO staff receive appropriate and timely training and technical assistance; (3) provides subject matter expertise on HIV prevention and treatment to ensure that training and technical assistance products developed by capacity building providers are aligned with HHS and CDC strategic goals and objectives, center and DHP priorities, and support the training and technical assistance needs of DHP program funding recipients, clinicians, and other HIV prevention service providers; (4) collaborates with DHP staff and capacity building providers to synthesize research findings and disseminate technical assistance and training products relevant to the needs of HIV prevention programs and clinicians; and (5) manages national conference contract and support services.

Prevention Communications Branch (CVJCI). (1) Develops, disseminates, and evaluates evidence-based HIV messages, communication campaigns, programs, and partnership efforts through multiple channels to stakeholders, health care providers, persons at risk for and living with HIV, and the general public; (2) maintains division communication infrastructure, including social media, Web, and SharePoint channels, the curation of CDC's HIV print inventory, and oversight of the HIV subject matter expertise of CDC-INFO; and (3) collaborates and consults with CDC staff, HHS, state and local health departments, and other groups and organizations involved in HIV prevention communication activities to devise and facilitate technical assistance systems and activities related to the application of social marketing and communication science to prevention programs and policies.

Program Development and Implementation Branch (CVJCJ). (1) In collaboration with state and local public health and non-governmental national, regional, and local partners, CIOs, and other federal agencies, develops and implements programs, policies, and activities that enable and mobilize affiliates and communities to become involved with, and support, strategic community planning that improves HIV prevention programs and activities; (2) plans, develops, implements, and manages strategies and resources that build a comprehensive public health-private sector partnership to prevent HIV and its complications; (3) provides technical consultation and assistance to local, state, and territorial health departments, integrated HIV prevention and care planning groups, non-governmental, other prevention partners, and tribal governments and organizations in operational aspects of HIV prevention; (4) monitors implementation and maintenance of HIV prevention programs through the application of program science to ensure operational objectives are being met; (5) establishes guidance and policies for implementation and continuation of local, state, and territorial HIV prevention programs; (6) provides technical review of grant applications and prevention work plans; (7) coordinates program development and implementation with local, state, and territorial integrated HIV prevention and care planning groups; (8) facilitates linkages with HIV and other infectious diseases prevention programs at all levels to maximize coordination of harm reduction and intervention strategies tailored for populations with complex psychosocial prevention needs; (9) works with national partners to foster HIV prevention capabilities and activities in affected communities; (10) monitors the progress of funded recipients implementing HIV prevention programs and activities; (11) promotes and facilitates the application of social marketing principles to HIV prevention at the state and local levels; (12) plans, implements, and manages DHP's programmatic notice of funding opportunities (NOFOs) for health departments, community-based organizations, and national partners and providers; (13) provides monitoring and oversight to programmatic NOFO activities throughout the funded lifecycle; (14) supports the federal Ending the HIV Epidemic workforce that provides technical consultation and direct assistance to state, local health departments implementing HIV prevention programs; and (15) assesses training, capacity building and technical assistance needs and develops strategies to address the training of recipient organizations and other external partners involved in HIV prevention programs and activities.

Translation and Evaluation Branch (CVJCK). (1) Collaborates with DHP, CDC, HIV prevention program recipients, and national partners to systematically collect, process, and use HIV prevention program data and research findings for program planning, monitoring, evaluation, and improvement; (2) identifies and prioritizes program needs and research gaps, synthesizes research and program findings, selects and translates HIV prevention research findings, and collaborates within DHP to support development and dissemination of guidelines, research syntheses and effective strategies for HIV prevention programs; (3) creates, maintains and regularly updates a public-facing platform to disseminate evidence-based prevention strategies and research syntheses aligned with DHP and national prevention priorities to internal and external stakeholders; (4) creates and manages a continuously updated multi-level coded cumulative database of the HIV prevention research literature in support of systematic reviews and guideline development as well as internal and public inquiries; (5) seeks to advance the methodology of HIV prevention evaluation through CDC evaluation activities and with the field of program evaluation more broadly; (6) seeks to improve data quality and support through providing assistance to recipients to help design and implement data collection, design local evaluations, and dissemination packages; (7) collects information to verify that what is developed, translated and disseminated is feasible, programmatically effective, and plays a role in improving health outcomes; (8) plans, develops, implements, and manages research dissemination strategies and resources that build a research to practice infrastructure to prevent HIV and its complications; (9) monitors implementation and establishes protocols for implementation of behavioral, biomedical, structural evidence-based and evidence-informed approaches by HIV prevention programs to determine if said approaches may be successfully implemented under real world conditions; (10) collaborates and consults with CDC staff, other Public Health Service agencies, state and local health departments, CBOs, and other groups and organizations involved in HIV prevention activities to support technical assistance systems and other activities related to the application of evidence-informed and evidence-based prevention programs and policies; (11) provides scientific expertise, quality assurance and clearance for products and processes related to systematic review, research synthesis, and guidelines methodologies; and (12) collaborates within DHP to provide technical consultation and assesses and determines the training, capacity building, and technical assistance needs for organizations implementing behavioral, biomedical, and structural evidence-based and evidence- informed approaches to meet the unique HIV prevention needs of local jurisdictions based upon risk factors and demographics.

Detection and Response Branch (CVJCL). (1) Develops and disseminates analytic methods for detecting and prioritizing clusters and outbreaks and understanding transmission patterns, molecular epidemiology, and drug resistance; (2) analyzes data to identify and monitor priority clusters and support public health action; (3) provides technical assistance and other support for health departments on detecting clusters and outbreaks; (4) develops, evaluates, and disseminates methods for responding to clusters and outbreaks; (5) develops guidance and provides technical assistance to support health departments to build capacity for cluster response and response planning, including community engagement; (6) leads cross-division collaboration and communication about cluster and outbreak detection and response and builds DHP capacity to support response, including training and rostering staff; (7) provides technical assistance and other support for health departments on responding to clusters and outbreaks and disseminates findings of these responses; (8) analyzes information from cluster detection and response to inform efforts to prevent clusters and outbreaks; (9) provides scientific and programmatic oversight and guidance for DHP informatics systems for cluster detection and response and collaborates with other DHP branches and offices on these systems; and (10) collaborates with other branches and offices in DHP, divisions in the center, and CIOs to harmonize scientific agendas and programmatic priorities and addresses community engagement and policy issues related to cluster detection and response.

Delete item (2) of the functional statement for the Division of Adolescent and School Health (CVJJ), and insert the following: (2) Identifies and monitors priority sexual health risks and related health behaviors among youth that result in the transmission of HIV, other sexually transmitted infections and unintended pregnancy.

Delete item (2) of the functional statement for the Program Development and Services Branch (CVJJB), and insert the following: (2) Uses the results of surveillance and evaluation research and research syntheses to improve the impact of school- and community-based interventions designed to reduce priority health risks among youth and to promote changes in behaviors related to HIV, other sexually transmitted diseases, and unintended pregnancy.

Sherri Berger,
Chief Operating Officer, Centers for Disease Control and Prevention.

[FR Doc. 2021-01213 Filed 1-19-21; 8:45 am]

BILLING CODE 4160-18-P